DEPARTMENT OF HEALTH AND HUMAN SERVICES

Centers for Medicare & Medicaid Services

[Document Identifier: CMS-10403]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: New collection; Title of Information Collection: Community-based Care Transitions Program (CCTP) Implementation and Monitoring; Use: The Medicare Community-Based Care Transitions Program (CCTP), authorized by Section 3026 of the 2010 Affordable Care Act, is a major component of the Partnership for Patients initiative, one goal of which is to decrease preventable complications during transition from a care setting, such as a hospital, to home, community, or another care setting. Appendix A contains a copy of the relevant portion of the legislation.

The CCTP will provide funding to test models for improving care transitions from the hospital to the community for high-risk Medicare beneficiaries. The Centers for Medicare & Medicaid Services (CMS) initiated the CCTP in early 2011 and will operate the program for five years. Congress has authorized $500 million to cover the cost of the program. CMS expects that program agreements will be in place to authorize community-based organizations (CBOs), in partnership with acute care hospitals, to begin providing care transition services in September 2011 and, if successful, continue doing so for up to five years. The planned collection of a participant experience survey is part of the implementation and monitoring strategy that will review the performance of organizations contracted to provide transitional care services under the CCTP. This clearance package seeks approval for the participant experience survey. Form Number: CMS-10403 (OMB # 0938-New); Frequency: Once; Affected Public: Individuals or Households; Number of Respondents: 50,000; Total Annual Responses: 50,000; Total Annual Hours: 12,500. (For policy questions regarding this collection contact Juliana Tiongson at 410-786-0342. For all other issues call 410-786-1326.)

To obtain copies of the supporting statement and any related forms for the proposed paperwork collections referenced above, access CMS' Web site at http://www.cms.gov/PaperworkReductionActof1995/PRAL/list.asp#TopOfPage or e-mail your request, including your address, phone number, OMB number, and CMS document identifier, to Paperwork@cms.hhs.gov, or call the Reports Clearance Office at 410-786-1326.

In commenting on the proposed information collections, please reference the document identifier or OMB control number. To be assured consideration, comments and recommendations must be submitted in one of the following ways by September 20, 2011:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number, Room C4-26-05, 7500 Security Boulevard, Baltimore, Maryland 21244-1850.

Dated: July 15, 2011.
Michelle Shortt,
Director, Regulations Development Group, Office of Strategic Operations and Regulatory Affairs.

[FR Doc. 2011-18366 Filed 7-21-11; 8:45 am]

BILLING CODE 4120-01-P